DEPARTMENT OF JUSTICE

Immigration and Naturalization Service

8 CFR Part 212

[INS No. 2099-00]

RIN 1115-AF95

Removing Burma From the Guam Visa Waiver Program

AGENCY: Immigration and Naturalization Service, Justice.

ACTION: Final rule.

SUMMARY: This rule adopts without change the interim rule published by the Immigration and Naturalization Service (Service) in the Federal Register on January 3, 2001, that removed Burma (internationally recognized as the Union of Myanmar) from the list of countries authorized to participate in the Guam Visa Waiver Program (GVWP). The GVWP waives the nonimmigrant visa requirement for nationals of certain countries, applying for admission as nonimmigrant visitors for business or pleasure for the sole purpose of visiting Guam for a period not to exceed 15 days.

DATES: This final rule is effective November 13, 2001.

FOR FURTHER INFORMATION CONTACT: Marty Newingham,Assistant Chief Inspector, Immigration and Naturalization Service, 425 I Street, NW, Room 4064, Washington, DC 20536, telephone (202) 616-7992.

SUPPLEMENTARY INFORMATION:

What Is the GVWP?

The GVWP waives the nonimmigrant visa requirement for certain aliens who apply for admission as a nonimmigrant visitor for business or pleasure for the sole purpose of visiting Guam for a period not exceeding 15 days.

The Omnibus Territories Act of 1986, Public Law 99-396, provided statutory authority to implement the GVWP. On December 18, 1987, the Service published a final rule in the Federal Register at 52 FR 48082, implementing the provisions of Public Law 99-396. The final rule also designated several countries including Burma to the list of countries authorized to participate in the GVWP.

What Are the Requirements for Initial GVWP Participation?

For a country to participate in the GVWP:

• The Attorney General, Secretary of State, and Secretary of Interior, acting jointly, after consultation with the Governor of Guam, must designate the country for the GVWP;

• The country must have a nonimmigrant visa refusal rate of 16.9 percent or less or have an established pre-inspection or pre-clearance program pursuant to a bilateral agreement with the United States;

• The country must be in geographical proximity to Guam, unless the country has a substantial volume of nonimmigrant travel to Guam and extends reciprocal privileges to citizens of the United States;

• The Department of State must not have designated the country as being of special humanitarian concern; and

• The waiver of a nonimmigrant visa must pose no threat to the welfare, safety, or security of the United States, its territories, or commonwealths.

What Are the Requirements for Removing a Country From Participation in the GVWP?

The Commissioner shall immediately remove a country from the GVWP if he or she determines that the program country poses a potential threat to the welfare, safety, or security of the United States (including enforcement of the immigration laws of the United States).

Why Did the Service Remove Burma From the List of Authorized GVWP Countries With the Interim Rule?

• The Service consulted with the Department of Justice, the Department of State, the Department of Interior, and the Governor of Guam and determined that Burma no longer met the eligibility requirements for participating in the GVWP;

• Although Congress intended to limit the GVWP to short-term visitors to Guam, in the first quarter of fiscal year 2001, the Agana Port-of-Entry experienced an increasing number of Burmese GVWP applicants for admission who require administrative proceedings. Consequently, the Service expended disproportionate resources in order to process Burmese travelers to Guam. These expenditures created significant obstacles for the orderly enforcement of the U.S. immigration laws in Guam, including extended wait times for arriving travelers seeking to enter Guam;

• The refusal rate for Burmese applicants for visitor's visas exceeded 40 percent during the 4-year period between 1996 and 1999;

• The United States has not established a pre-inspection or pre-clearance program in Burma;

• Burma is a country in economic and political turmoil;

• Despite multiparty elections in 1990 that resulted in a decisive victory for the main opposition party, the military junta ruling Burma has refused to relinquish power; and

• Burma lacks the will and ability to effectively participate in the anti-drug effort.

On January 3, 2001, the Service published an interim rule in the Federal Register at 66 FR 235. This interim rule amended the Service's regulations by removing Burma (internationally recognized as the Union of Myanmar) from the list of countries authorized to participate in the Guam Visa Waiver Program (GVWP). The Service provided the public with a 60-day comment period that ended March 5, 2001. The Service has not received any comments from the public. Accordingly, the Service is adopting the interim rule as a final rule without change.

Regulatory Flexibility Act

The Acting Commissioner of the Immigration and Naturalization Service, in accordance with the Regulatory Flexibility Act (5 U.S.C. 605(b)), has reviewed this regulation and, by approving it, certifies that this rule will not have a significant economic impact on a substantial number of small entities. Burmese nationals who wish to travel to Guam temporarily for legitimate business or pleasure purposes will still be permitted to visit Guam, if, prior to their journey, they acquire a nonimmigrant visa at a U.S. Embassy or consulate. This rule furthers the law enforcement and national security interests of the United States without significantly restricting legitimate travel to Guam. It does not affect small entities as that term is defined in 5 U.S.C. 601(6).

Executive Order 12866

This rule is not considered by the Department of Justice, Immigration and Naturalization Service, to be a “significant regulatory action” under Executive Order 12866, section 3(f), Regulatory Planning and Review, and the Office of Management and Budget has waived its review process under section 6(a)(3)(A).

Executive Order 13132

This rule will not have substantial direct effects on the States, on the relationship between the National Government and the States, or on the distribution of power and responsibilities among the various levels of government. Therefore, in accordance with section 6 of Executive Order 13132, it is determined that this rule does not have sufficient federalism implications to warrant the preparation of a federalism summary impact statement.

Unfunded Mandates Reform Act of 1995

This rule will not result in the expenditure by State, local and tribal governments, in the aggregate, or by the private sector, of $100 million or more in any 1-year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12988 Civil Justice Reform

This rule meets the applicable standards set forth in sections 3(a) and 3(b)(2) of Executive Order 12988.

List of Subjects in 8 CFR Part 212

Administrative practice and procedure, Aliens, Immigration, Passports and visas, Reporting and recordkeeping requirements.

Accordingly, the interim rule amending 8 CFR part 212, which was published in the Federal Register at 66 FR 235, on January 3, 2001, is adopted as a final rule without change.

Dated: October 4, 2001.
James W. Ziglar,
Commissioner, Immigration and Naturalization Service.

[FR Doc. 01-25477 Filed 10-10-01; 8:45 am]

BILLING CODE 4410-10-P